DEPARTMENT OF HOMELAND SECURITY

Federal Emergency Management Agency

[Internal Agency Docket No. FEMA-3366-EM; Docket ID FEMA-2014-0003]

West Virginia; Amendment No. 3 to Notice of an Emergency Declaration

AGENCY: Federal Emergency Management Agency, DHS.

ACTION: Notice.

SUMMARY: This notice amends the notice of an emergency declaration for the State of West Virginia (FEMA-3366-EM), dated January 10, 2014, and related determinations.

DATES: Effective Date: April 10, 2014.

FOR FURTHER INFORMATION CONTACT: Dean Webster, Office of Response and Recovery, Federal Emergency Management Agency, 500 C Street SW., Washington, DC 20472, (202) 646-2833.

SUPPLEMENTARY INFORMATION: The notice of an emergency declaration for the State of West Virginia is hereby amended to include grant assistance for those areas determined to have been adversely affected by the event declared an emergency by the President in his declaration of January 10, 2014.

Boone, Cabell, Clay, Jackson, Kanawha, Lincoln, Logan, Putnam, and Roane Counties for emergency protective measures (Category B), including direct federal assistance, under the Public Assistance program carried out during the period of January 9-20, 2014.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households in Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

W. Craig Fugate,
Administrator, Federal Emergency Management Agency.

[FR Doc. 2014-08661 Filed 4-15-14; 8:45 am]

BILLING CODE 9111-23-P